DEPARTMENT OF THE TREASURY

Internal Revenue Service

26 CFR Part 1

[REG-142605-02]

RIN-1545-BB47

Administration Simplification of Section 481(a) Adjustment Periods in Various Regulations; Hearing Cancellation

AGENCY: Internal Revenue Service (IRS), Treasury.

ACTION: Cancellation of notice of public hearing on proposed rulemaking.

SUMMARY: This document cancels a public hearing on proposed regulations under section sections 263A and 448 of the Internal Revenue Code. The amendments apply to taxpayers changing a method of accounting under the regulations and are necessary to conform the rules governing those changes to the rules provided in general guidance issued by the IRS for changing a method of accounting.

DATES: The public hearing originally scheduled for August 13, 2003, at 10 a.m., is cancelled.

FOR FURTHER INFORMATION CONTACT: Sonya M. Cruse of the Regulations Unit, Associate Chief Counsel (Procedure and Administration), at (202) 622-4693 (not a toll-free number).

SUPPLEMENTARY INFORMATION: A notice of proposed rulemaking and notice of public hearing that appeared in the Federal Register on Monday, May 12, 2003, (68 FR 25310), announced that a public hearing was scheduled for August 13, 2003, at 10 a.m., in the auditorium, Internal Revenue Service Building, 1111 Constitution Avenue, NW., Washington, DC.

The subject of the public hearing is proposed regulations under sections 263A and 448 of the Internal Revenue Code. The public comment period for these regulations expired on July 11, 2003. The outlines of oral comments were due on July 23, 2003. The notice of proposed rulemaking and notice of public hearing, instructed those interested in testifying at the public hearing to submit a request to speak and an outline of the topics to be addressed. As of Monday, August 4, 2003, no one has requested to speak. Therefore, the public hearing scheduled for August 13, 2003, is cancelled.

Cynthia E. Grigsby,
Chief, Regulations Unit, Associate Chief Counsel (Procedure and Administration).

[FR Doc. 03-20184 Filed 8-6-03; 8:45 am]

BILLING CODE 4830-01-P